DEPARTMENT OF ENERGY

Federal Energy Regulatory Commission

[Docket No. IC26-14-000]

Commission Information Collection Activities (FERC-1002); Comment Request; Extension

AGENCY: Federal Energy Regulatory Commission.

ACTION: Notice of information collections and request for comments.

SUMMARY: In compliance with the requirements of the Paperwork Reduction Act of 1995, the Federal Energy Regulatory Commission (Commission or FERC) staff is soliciting public comment on the currently approved information collection FERC-1002 (Customer Engagement Management Survey). There are no proposed changes to the collection.

DATES: Comments on the collections of information are due April 27, 2026.

ADDRESSES: Please submit comments via email to DataClearance@FERC.gov. You must specify the Docket No. (IC26-14-000) and the FERC Information Collection number (FERC-1002) in your email. If you are unable to file electronically, comments may be filed by USPS mail or by hand (including courier) delivery:

• Mail via U.S. Postal Service only, addressed to: Federal Energy Regulatory Commission, Secretary of the Commission, 888 First Street NE, Washington, DC 20426.

• Hand (including courier) delivery to: Federal Energy Regulatory Commission, Secretary of the Commission, 12225 Wilkins Avenue, Rockville, MD 20852.

Docket: To view this docket, please visit https://elibrary.ferc.gov/eLibrary/search.

FOR FURTHER INFORMATION CONTACT: Kayla Williams may be reached by email at DataClearance@FERC.gov, or by telephone at (202) 502-6468.

SUPPLEMENTARY INFORMATION:

Titles: FERC-1002 (Customer Engagement Management Survey).

OMB Control Nos: 1902-0329.

Type of Request: Three-year extension of the FERC-1002 information collection requirements with no changes to the current reporting requirements.

Abstract: This survey covers outreach under the Office of Public Participation, Office of External Affairs.¹ FERC collects voluntarily-provided information on individual or stakeholder interests to engage with them by providing, to the extent possible, targeted information consistent with their expressed interest. FERC also collects contact information to keep email distributions to be used to inform interested individuals of technical conferences, workshops, user group meetings, certain proceedings or of press releases or newsletters.

¹ FERC-1002 covers two areas of outreach for customer engagement from the Office of Public Participation: Subscribe for Updates From the Office of Public Participation | Federal Energy Regulatory Commission (ferc.gov): FERC Insight Newsletter | Federal Energy Regulatory Commission.

This information collection is used to conduct customer engagement activities. Customer engagement is critical to further the Commission's goal of facilitating the public's understanding of FERC's work and encouraging their participation in FERC matters. This data allows FERC to understand which areas of its work are of greater interest to the public and where additional public outreach and educational materials or other resources are needed the most.

Estimate of Annual Burden: ² The following tables set forth the estimated annual burden and cost ³ for the information collections:

² Burden is defined as the total time, effort, or financial resources expended by persons to generate, maintain, retain, or disclose or provide information to or for a Federal agency. For further explanation of what is included in the information collection burden, see 5 CFR 1320.3.

³ Commission staff estimates that industry is similarly situated in terms of hourly cost (for wages plus benefits). Based on the Commission's FY (Fiscal Year) 2026 average cost (for wages plus benefits), $102/hour is used.

Subscriber type | Number of respondents | Annual number of responses per respondent | Total number of responses | Average burden hours & cost ($) per response | Total annual burden hours & total annual cost ($) | Cost per respondent ($)
| (1) | (2) | (1) * (2) = (3) | (4) | (3) * (4) = (5) | (5) ÷ (1)
Customer Engagement | 2,000 | 1 | 2,000 | 0.083 hrs.; $8.47 | 166 hrs.; $16,940 | $8.47
OPP | 20 | 1 | 20 | 0.13 hrs.; $13.26 | 2.6 hrs.; $265.20 | 13.26
|  |  | 220 |  | 168.6 hrs.; $17,205.20 |

Comments: Comments are invited on: (1) whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

Dated: February 19, 2026.
Debbie-Anne A. Reese,
Secretary.

[FR Doc. 2026-03664 Filed 2-23-26; 8:45 am]

BILLING CODE 6717-01-P